DEPARTMENT OF THE INTERIOR

Fish and Wildlife Service

[DOI-2020-0009; FF10T03000 190 FXGO16601025020]

Privacy Act of 1974; System of Records

AGENCY: Fish and Wildlife Service, Interior.

ACTION: Rescindment of a system of records notice.

SUMMARY: The Department of the Interior (DOI) is issuing a public notice of its intent to rescind two U.S. Fish and Wildlife Service (FWS) Privacy Act systems of records, INTERIOR/FWS-19, Endangered Species Licensee System, and INTERIOR/FWS-34, National Conservation Training Center Training Server System, from its existing inventory. These systems of records notices have been superseded by a Department-wide system of records notice or a FWS system of records notice. This rescindment will eliminate unnecessary duplicate notices and promote the overall streamlining and management of DOI Privacy Act systems of records.

DATES: These changes take effect on December 9, 2020.

ADDRESSES: You may send comments identified by docket number [DOI-2020-0009] by any of the following methods:

• Federal eRulemaking Portal: http://www.regulations.gov. Follow the instructions for sending comments.

• Email: DOI_Privacy@ios.doi.gov. Include docket number [DOI-2020-0009] in the subject line of the message.

• U.S. Mail or Hand-Delivery: Teri Barnett, Departmental Privacy Officer, U.S. Department of the Interior, 1849 C Street NW, Room 7112, Washington, DC 20240.

Instructions: All submissions received must include the agency name and docket number [DOI-2020-0009]. All comments received will be posted without change to http://www.regulations.gov, including any personal information provided.

Docket: For access to the docket to read background documents or comments received, go to http://www.regulations.gov.

You should be aware your entire comment including your personal identifying information, such as your address, phone number, email address, or any other personal identifying information in your comment, may be made publicly available at any time. While you may request to withhold your personal identifying information from public review, we cannot guarantee we will be able to do so.

FOR FURTHER INFORMATION CONTACT: Jennifer Schmidt, Associate Privacy Officer, U.S. Fish and Wildlife Service, 5275 Leesburg Pike, MS: IRTM, Falls Church, VA 22041-3803, FWS_Privacy@fws.gov or (703) 358-2291.

SUPPLEMENTARY INFORMATION: Pursuant to the provisions of the Privacy Act of 1974, as amended, the DOI is rescinding the following two FWS system of records notices from its system of records inventory. During a routine review, FWS determined these systems of records notices were superseded by a published Department-wide or FWS system of records notice. Therefore, DOI is rescinding these FWS systems of records notices to avoid duplication of existing systems of records notices in accordance with the Office of Management and Budget Circular A-108, Federal Agency Responsibilities for Review, Reporting, and Publication under the Privacy Act.

• INTERIOR/FWS-19, Endangered Species Licensee System. This system of records notice was superseded by INTERIOR/FWS-21, Permit Systems, 68 FR 52610 (September 4, 2003); modification published 73 FR 31877 (June 4, 2008). Records in the system were migrated to and are maintained under the INTERIOR/FWS-21, Permit Systems, system of records notice.

• INTERIOR/FWS-34, National Conservation Training Center Training Server System. This system of records notice was superseded by a Department-wide system of records notice, INTERIOR/DOI-16, Learning Management System, 83 FR 50682 (October 9, 2018), which covers bureau and office training program records.

Rescinding these system of records notices will have no adverse impacts on individuals as the records previously maintained under INTERIOR/FWS-19 and INTERIOR/FWS-34 are covered under the published INTERIOR/FWS-21 and INTERIOR/DOI-16 systems of records notices. This rescindment will also promote the overall streamlining and management of DOI Privacy Act systems of records.

SYSTEM NAME AND NUMBER:

1. INTERIOR/FWS-19, Endangered Species Licensee System.

2. INTERIOR/FWS-34, National Conservation Training Center Training Server System.

HISTORY:

1. INTERIOR/FWS-19, Endangered Species Licensee System, 64 FR 29055 (May 28, 1999); modification published 73 FR 31877 (June 4, 2008).

2. INTERIOR/FWS-34, National Conservation Training Center Training Server System, 67 FR 17711 (April 11, 2002); modification published 73 FR 31877 (June 4, 2008).

Teri Barnett,
Departmental Privacy Officer, Department of the Interior.

[FR Doc. 2020-27156 Filed 12-8-20; 8:45 am]

BILLING CODE 4333-15-P